DEPARTMENT OF HEALTH AND HUMAN SERVICES

[Document Identifier: OS-0990-0162; 60-day Notice]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60 days.

Proposed Project: State Medicaid Fraud Control Units' Reports—OMB No. 0990-0162—Extension-Office of the Inspector General (OIG).

Abstract: Office of the Inspector General (OIG) is requesting an extension by Office of Management and Budget for the collection of information to specifically comply with the requirements in Title 19 of the Social Security Act at 1903(q) and 42 CFR1007.15 and 1007.17, in accordance with the Paperwork Reduction Act. The information collected consists of fifty separate annual reports and fifty separate application requests for Federal grant certification/re-certification. The collection is submitted yearly to the Office of the Inspector General (OIG) by the fifty established State Medicaid Fraud Control Units (Units). OIG uses the information received to assess and determine the Units' eligibility for continued participation in the Federal Medicaid fraud control grant program.

Estimated Annualized Burden Table
Respondent | Form | Number of respondents | Number of responses per respondent | Average burden per response (in hours) | Total burden hours
State (MFCU) Units | Annual Report | 50 | 1 | 88 | 4,400
State (MFCU) Units | Certification/Recertification Application | 50 | 1 | 5 | 250
Total |  |  |  |  | 4,650

Seleda Perryman,
Office of the Secretary, Paperwork Reduction Act Clearance Officer.

[FR Doc. 2010-21400 Filed 8-27-10; 8:45 am]

BILLING CODE 4152-01-P